FEDERAL ELECTION COMMISSION

Sunshine Act Notices

AGENCY: Federal Election Commission.

Special Executive Session

Date & Time: Thursday, November 30, 2000, following the open meeting.

Place: 999 E Street, NW., Washington, DC.

Status: This meeting was closed to the public pursuant to 11 CFR § 2.4(b)(1).

Item to be discussed: Personnel.

Date & Time: Tuesday, December 12, 2000 at 10:00 a.m.

Place: 999 E Street, NW., Washington, DC.

Status: This meeting was closed to the public.

Items to be Discussed:

Compliance matters pursuant to 2 U.S.C. § 437g.

Audits conducted pursuant to 2 U.S.C. § 437g, § 438(b), and Title 26, U.S.C.

Matters concerning participation in civil actions or proceedings or arbitration.

Internal personal rules and procedures or matters affecting a particular employee.

Date & Time: Thursday, December 14, 2000 at 10:00 a.m.

Place: 999 E Street, NW., Washington, DC.

Status: This meeting was closed to the public.

Item to be discussed:

Correction and Approval of Minutes

Election of Officers.

Future Meeting Dates.

Draft Advisory Opinion 200-28: American Seniors Housing Associaiton (ASHA) and the National Multi Housing Council (NMHC) by counsel, Cheryl M. Cronin.

Draft Advisory Opinion 2000-36: Andersen Consulting PAC by counsel, John C. Keeney, Jr.

Draft Advisory Opinion 2000-38: Democractic Party of the commonwealth of Puerto Rico.

Draft Advisory Opinion 2000-39: Pacific Green Party of Oregon by Trey Smith, Treasurer.

Regulations Priority Report.

Administrative Matters.

PERSON TO CONTACT FOR INFORMATION: Mr. Ron Harris, Press Officer, Telephone: (202) 694-1220.

Mary W. Dove,
Acting Secretary of the Commission.

[FR Doc. 00-31219 Filed 12-4-00; 2:11 pm]

BILLING CODE 6715-01-M